DEPARTMENT OF COMMERCE

National Oceanic and Atmospheric Administration

50 CFR Part 679

[Docket No. 071106673-8011-02]

RIN 0648-XJ32

Fisheries of the Exclusive Economic Zone Off Alaska; Reallocation of Atka Mackerel in the Bering Sea and Aleutian Islands Management Area

AGENCY: National Marine Fisheries Service (NMFS), National Oceanic and Atmospheric Administration (NOAA), Commerce.

ACTION: Temporary rule; reallocation.

SUMMARY: NMFS is reallocating the projected unused amount of the 2008 incidental catch allowance (ICA) of Atka mackerel to the B season allowance of Atka mackerel for the Amendment 80 cooperative in the Eastern Aleutian District and the Bering Sea subarea of the Bering Sea and Aleutian Islands management area (BSAI). This action is necessary to allow the 2008 total allowable catch of Atka mackerel to be fully harvested.

DATES: Effective July 29, 2008, through 2400 hrs, Alaska local time (A.l.t.), December 31, 2008.

FOR FURTHER INFORMATION CONTACT: Jennifer Hogan, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2008 ICA of Atka mackerel is 1,400 metric tons (mt) and the B season allowance of Atka mackerel for the Amendment 80 cooperative is 3,692 mt in the Eastern Aleutian District and the Bering Sea subarea of the BSAI as established by the 2008 and 2009 final harvest specifications for groundfish in the BSAI (73 FR 10160, February 26, 2008).

The Administrator, Alaska Region, NMFS, has determined that 1,300 mt of the ICA will not be harvested. Therefore, in accordance with § 679.20(a)(8)(v)(B), NMFS apportions 1,300 mt of Atka mackerel from the ICA to the B season allowance of Atka mackerel for the Amendment 80 cooperative in the Eastern Aleutian District and the Bering Sea subarea of the BSAI. In accordance with § 679.91(f), NMFS will reissue cooperative quota permits for the reallocated Atka mackerel following the procedures set forth in § 679.91(f)(3).

The harvest specifications for Atka mackerel included in the harvest specifications for groundfish in the BSAI (73 FR 10160, February 26, 2008) are revised as follows: 100 mt to the ICA and 4,992 mt to B season allowance of Atka mackerel for the Amendment 80 cooperative in the Eastern Aleutian District and the Bering Sea subarea of the BSAI. Table 4 is correctly revised and republished in its entirety as follows:

TABLE 4—2008 AND 2009 SEASONAL AND SPATIAL ALLOWANCES, GEAR SHARES, CDQ RESERVE, INCIDENTAL CATCH ALLOWANCE, AND AMENDMENT 80 ALLOCATIONS OF THE BSAI ATKA MACKEREL TAC
[Amounts are in metric tons]
Sector¹ | Season²,³ | 2008 allocation by area: Eastern Aleutian District/Bering Sea | 2008 allocation by area: Central Aleutian District | 2008 allocation by area: Western Aleutian District | 2009 allocation by area: Eastern Aleutian District/Bering Sea | 2009 allocation by area: Central Aleutian District | 2009 allocation by area: Western Aleutian District
TAC | n/a | 19,500 | 24,300 | 16,900 | 15,300 | 19,000 | 13,200
CDQ reserve | Total | 2,087 | 2,600 | 1,808 | 1,637 | 2,033 | 1,412
| HLA⁴ | n/a | 1,560 | 1,085 | n/a | 1,220 | 847
ICA | Total | 100 | 10 | 10 | 1,400 | 10 | 10
Jig⁵ | Total | 80 | 0 | 0 | 61 | 0 | 0
BSAI trawl limited access | Total | 319 | 434 | 0 | 488 | 678 | 0
| A | 159 | 217 | 0 | 244 | 339 | 0
| HLA⁴ | n/a | 130 | 0 | n/a | 203 | 0
| B | 159 | 217 | 0 | 244 | 339 | 0
| HLA⁴ | n/a | 130 | 0 | n/a | 203 | 0
Amendment 80 sectors | Total | 15,615 | 21,256 | 15,082 | 12,202 | 16,957 | 11,778
| A | 7,807 | 10,628 | 7,541 | 6,101 | 8,479 | 5,889
| HLA⁴ | 4,684 | 6,377 | 4,525 | 3,660 | 5,087 | 3,533
| B | 7,807 | 10,628 | 7,541 | 6,101 | 8,479 | 5,889
| HLA⁴ | 4,684 | 6,377 | 4,525 | 3,660 | 5,087 | 3,533
Amendment 80 limited access | Total | 8,232 | 12,809 | 9,298 | n/a | n/a | n/a
| A | 4,116 | 6,405 | 4,649 | n/a | n/a | n/a
| HLA⁴ | n/a | 3,843 | 2,789 | n/a | n/a | n/a
| B | 4,116 | 6,405 | 4,649 | n/a | n/a | n/a
| HLA⁴ | n/a | 3,843 | 2,789 | n/a | n/a | n/a
Amendment 80 cooperatives | Total | 8,804 | 8,447 | 5,784 | n/a | n/a | n/a
| A | 3,812 | 4,224 | 2,892 | n/a | n/a | n/a
| HLA⁴ | n/a | 2,534 | 1,735 | n/a | n/a | n/a
| B | 4,992 | 4,224 | 2,892 | n/a | n/a | n/a
| HLA⁴ | n/a | 2,534 | 1,735 | n/a | n/a | n/a
¹ Section 679.20(a)(8)(ii) allocates the Atka mackerel TACs, after subtraction of the CDQ reserves, jig gear allocation, and ICAs, to the Amendment 80 and BSAI trawl limited access sectors. The allocation of the ITAC for Atka mackerel to the Amendment 80 and BSAI trawl limited access sectors is established in Table 33 to part 679 and § 679.91. The CDQ reserve is 10.7 percent of the TAC for use by CDQ participants (see §§ 679.20(b)(1)(ii)(C) and 679.31).
² Regulations at §§ 679.20(a)(8)(ii)(A) and 679.22(a) establish temporal and spatial limitations for the Atka mackerel fishery. The A season is January 1 (January 20 for trawl gear) to April 15 and the B season is September 1 to November 1.
³ The seasonal allowances of Atka mackerel are 50 percent in the A season and 50 percent in the B season.
⁴ Harvest Limit Area (HLA) limit refers to the amount of each seasonal allowance that is available for fishing inside the HLA (see § 679.2). In 2008 and 2009, 60 percent of each seasonal allowance is available for fishing inside the HLA in the Western and Central Aleutian Districts.
⁵ Section 679.20(a)(8)(i) requires that up to 2 percent of the Eastern Aleutian District and the Bering Sea subarea TAC be allocated to jig gear after subtraction of the CDQ reserve and ICA. The amount of this allocation is 0.5 percent. The jig gear allocation is not apportioned by season.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Atka mackerel from the ICA to the Amendment 80 cooperative in the Eastern Aleutian District and the Bering Sea subarea of the BSAI. Since the fishery is currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of July 23, 2008.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: July 25, 2008.
Emily H. Menashes,
Acting Director, Office of Sustainable Fisheries, National Marine Fisheries Service.

[FR Doc. E8-17466 Filed 7-29-08; 8:45 am]

BILLING CODE 3510-22-S